NATIONAL SCIENCE FOUNDATION

Notice of Permit Applications Received under the Antarctic Conservation Act of 1978

AGENCY: National Science Foundation.

ACTION: Notice of Permit Applications Received under the Antarctic Conservation Act of 1978.

SUMMARY: The National Science Foundation (NSF) is required to publish a notice of permit applications received to conduct activities regulated under the Antarctic Conservation Act of 1978, Public Law 95-541. NSF has published regulations under the Antarctic Conservation Act at Title 45 Part 670 of the Code of Federal Regulations. This is the required notice of permit applications received.

DATES: Interested parties are invited to submit written data, comments, or views with respect to this permit application by April 20, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows:

Permit Application: 2012-016

1. Applicant: Lockheed Martin Corporation, Information Systems & Global Solutions (I&GS), Engineering Services Segment, Celia Lang, Program Director (Principal in Charge), 7400 South Tucson Way, Centennial, CO 80112.

Activity for Which Permit Is Requested

Enter Antarctic Specially Protected Areas (ASPAs). The applicant plans to only transit through the marine ASPAs (ASPA 145—Port Foster, Deception Caldera, ASPA 152—Western Bransfield Strait, and ASPA 153—Eastern Dallmann Bay) when truly necessary. The areas' management plans allow transit through the areas so long as doing so does not jeopardize the values to be protected in each ASPA.

Location

ASPA 145—Port Foster, Deception Caldera, ASPA 152—Western Bransfield Strait, and ASPA 153—Eastern Dallmann Bay.

Dates

April 1, 2012 to March 31, 2017.

Nadene G. Kennedy,
Permit Officer, Office of Polar Programs.

[FR Doc. 2012-6803 Filed 3-20-12; 8:45 am]

BILLING CODE 7555-01-P